DEPARTMENT OF EDUCATION

Applications for New Awards; Fostering Diverse Schools Demonstration Grants

AGENCY: Office of Elementary and Secondary Education, Department of Education.

ACTION: Notice.

SUMMARY: The U.S. Department of Education (Department) is issuing a notice inviting applications for fiscal year (FY) 2023 for Title IV-A of the Elementary and Secondary Education Act of 1965 (ESEA) Fostering Diverse Schools Demonstration Grants, Assistance Listing Number (ALN) 84.424G. This notice relates to the approved information collection under OMB control number 1894-0006.

DATES:

Applications Available: May 8, 2023.

Deadline for Transmittal of Applications: July 7, 2023.

Deadline for Intergovernmental Review: September 5, 2023.

Pre-Application Webinar Information: The Department will hold pre-application webinars on Tuesday, May 9, 2023, at 2:00 p.m. Eastern time and Thursday, May 18, 2023 at 2:00 p.m. Eastern time. Applicants can sign on at oese.ed.gov/fostering-diverse-school-program-fdsp/.

ADDRESSES: For the addresses for obtaining and submitting an application, please refer to our Common Instructions for Applicants to Department of Education Discretionary Grant Programs, published in the Federal Register on December 7, 2022 (87 FR 75045), and available at https://www.federalregister.gov/documents/2022/12/07/2022-26554/common-instructions-for-applicants-to-department-of-education-discretionary-grant-programs. Please note that these Common Instructions supersede the version published on December 27, 2021.

FOR FURTHER INFORMATION CONTACT: Richard Wilson, U.S. Department of Education, 400 Maryland Avenue SW, Room 3W101, Washington, DC 20202-5970. Telephone: (202) 453-6709. Email: Richard.Wilson@ed.gov.

If you are deaf, hard of hearing, or have a speech disability and wish to access telecommunications relay services, please dial 7-1-1.

SUPPLEMENTARY INFORMATION:

Full Text of Announcement

I. Funding Opportunity Description

Purpose of Program: The Fostering Diverse Schools Demonstration Grants program provides competitive grants to local educational agencies (LEAs), consortia of LEAs, or one or more LEAs in partnership with a State educational agency (SEA) to provide students with access to a well-rounded education and to improve school conditions for student learning by developing or implementing, and making publicly available as a resource for other LEAs and SEAs, comprehensive plans for increasing school socioeconomic diversity in preschool through grade 12.

Background:

Our country's rich diversity is its strength. Research suggests that students are better prepared for success when they learn together in schools where students and educators represent a wide range of backgrounds and experiences.¹ Supporting diverse student populations in LEAs, schools, classrooms, and educational programs or courses is a way to provide more well-rounded educational experiences and opportunities that support academic achievement for all students, consistent with section 4107 of the ESEA. In addition, schools with diverse student populations provide safe and healthy environments that enable academic achievement, consistent with section 4108 of the ESEA. This goal is supported by research showing that students attending diverse schools have better test scores and higher college attendance and graduation rates.² The Fostering Diverse Demonstration Schools Grants program is intended to help build the capacity of LEAs to meet the needs of students—including academic, social, emotional, and mental health—by increasing access to and equity in diverse and inclusive learning environments. This program is being established with funds from the 2 percent reservation for technical assistance and capacity building under section 4103(a)(3) of the ESEA, which is designed to support States and LEAs in carrying out activities authorized under the Student Support and Academic Enrichment Grants program in Title IV, part A of the ESEA, including activities that support access to a well-rounded education and activities that support safe and healthy students and their academic and overall well-being. Grants are available to LEAs, individually or in partnership with other LEAs or with a SEA, to develop, enhance, or implement plans that foster socioeconomic diversity in preschool through grade 12 for the purpose of increasing academic achievement through providing access to a well-rounded education and supporting student well-being. The Explanatory Statement ³ for Division H of the Consolidated Appropriations Act, 2022 (Pub. L. 117-103), directs the Department to prioritize its Title IV, part A reservation for technical assistance and capacity building to support SEAs and LEAs in fostering school diversity efforts across and within school districts. Awards under this FY 2023 competition will be supported with FY 2022 Title IV, part A technical assistance and capacity building funds, which remain available for obligation by the Department until September 30, 2023.

¹ Palardy, G. (2008). “Differential school effects among low, middle, and high social class composition schools.” School Effectiveness and School Improvement 19, 1: 21-49. https://doi.org/10.1080/09243450801936845.

Mickelson, R.A. (2008). “Twenty-first Century Social Science Research on School Diversity and Educational Outcomes,” Ohio State Law Journal 69: 1173-228. https://kb.osu.edu/handle/1811/71161.

Egalite, A., B. Kisida, and M.A. Winters. (2015). “Representation in the Classroom: The Effect of Own-race Teachers on Student Achievement,” Economics of Education Review, 45, 44-52. https://doi.org/10.1016/j.econedurev.2015.01.007.

Palardy, G.J. (2013). “High school socioeconomic segregation and student attainment,” American Educational Research Journal, 50, 4: 714. https://doi.org/10.3102/0002831213481240.

Ayscue, J., Frankenberg, E. and Siegel-Hawley, G. (2017). “The Complementary Benefits of Racial and Socioeconomic Diversity in Schools.” Research Brief No. 10. National Coalition on School Diversity. https://eric.ed.gov/?id=ED603698.

Dee, T. (2004). Teachers, race and student achievement in a randomized experiment. The Review of Economics and Statistics, 86,1: 195-210. https://eric.ed.gov/?id=ED464172.

Gershenson, S., Hart, C. M. D., Hyman, J., Lindsay, C. A., & Papageorge, N. W. (2022). “The long-run impacts of same race teachers.” American Economic Journal: Economic Policy, 14(4): 300-342. https://doi.org/10.1257/pol.20190573.

² Tegeler, P., Mickelson, R. A., & Bottia, M. (2011). What We Know about School Integration, College Attendance, and the Reduction of Poverty. Research Brief No. 4. Updated. https://eric.ed.gov/?id=ED571628. National Coalition on School Diversity; Eaton, S. (2011). School Racial and Economic Composition & Math and Science Achievement. Research Brief No. 1. Updated. National Coalition on School Diversity. https://eric.ed.gov/?id=ED571622.

³ See page S8895 of https://www.congress.gov/117/crec/2022/12/20/168/198/CREC-2022-12-20-pt2-PgS8553-2.pdf.

Research suggests that income segregation is increasing ⁴ and that students in socioeconomically isolated schools (i.e., schools overwhelmingly composed of children from low-income backgrounds) have less access to the critical resources and funding that are necessary for high-quality educational experiences than students in socioeconomically diverse or more affluent schools, and as a result have negative academic outcomes.⁵ This disparity can ultimately have detrimental effects on the individual lives of students and the foundation of democracy.⁶

⁴ Owens, A. (2018). Income segregation between school districts and inequality in students' achievement. Sociology of education, 91(1), 1-27. https://journals.sagepub.com/doi/full/10.1177/0038040717741180.

⁵ Reardon, S. F. (2016). School segregation and racial academic achievement gaps. RSF: The Russell Sage Foundation Journal of the Social Sciences, 2(5), 34-57. https://www.rsfjournal.org/content/2/5/34.

Palardy, G. J. (2013). “High school socioeconomic segregation and student attainment.” American Educational Research Journal, 50(4), 714-754. https://doi.org/10.3102/0002831213481240.

⁶ Kahlenberg, R. D., Potter, H., & Quick, K. (2019). A bold agenda for school integration. The Century Foundation. https://eric.ed.gov/?id=ED603383.

Research also suggests that school diversity provides a range of benefits to students, including improved leadership skills, social mobility, civic engagement, academic success, empathy, and understanding.⁷ Unfortunately, nearly 70 years after the Brown v. Board of Education decision, much of the progress toward school diversity and equality has stalled or even reversed in many communities.⁸ For example, demographic isolation has been exacerbated by policy choices related to school assignment, zoning, and transportation options that create inequitable access to high-quality schools. The U.S. Government Accountability Office (GAO) has documented the situation in a recent report showing the “student population has significantly diversified, but many schools remain divided along racial, ethnic, and economic lines.” ⁹ Another recent GAO report documented the increase in percentages of schools with high concentrations of students from families with low incomes and high concentrations of students of particular races.¹⁰

⁷ Ibid.

⁸ Logan, J. R., Minca, E., & Adar, S. (2012). The Geography of Inequality: Why Separate Means Unequal in American Public Schools. Sociology of Education, 85(3), 287-301. https://doi.org/10.1177/0038040711431588.

⁹ U.S. Government Accountability Office. (2022). “K-12 Education: Student Population Has Significantly Diversified, but Many Schools Remain Divided Along Racial, Ethnic, and Economic Lines.” GAO-22-104737. https://www.gao.gov/products/gao-22-104737.

¹⁰ U.S. Government Accountability Office. (2016). “K-12 Education: Better Use of Information Could Help Agencies Identify Disparities and Address Racial Discrimination.” GAO-16-345. https://www.gao.gov/products/gao-16-345.

In addition to diverse schools, students' experiences in diverse classrooms can provide a range of academic, social, and emotional benefits, including increased civic engagement, improved critical thinking skills, and innovation.¹¹ However, even when school buildings overall are more diverse, in some cases, the classrooms providing more rigorous educational opportunities in the building do not reflect such diversity.

¹¹ Kahlenberg, R. D., Potter, H., & Quick, K. (2019). A bold agenda for school integration. Ibid. https://eric.ed.gov/?id=ED603383.

Through the Title IV-A Grants for Fostering Diverse Schools Demonstration program, the Department invites LEAs, consortia of LEAs, or one or more LEAs in partnership with a SEA to apply for funding to—(1) develop or enhance a locally tailored comprehensive plan to increase socioeconomic diversity across and within LEAs, schools, and academic programs or courses, as applicable; or (2) implement a locally tailored comprehensive plan to foster socioeconomic diversity across and within districts and schools, and within classrooms, as applicable. The Department seeks to support applicants that promote the use of evidence-based strategies to increase access to high-quality, well-rounded learning experiences, support safe and healthy students by increasing diversity across and within districts, schools, and courses, or both. The Department also seeks to support applicants that demonstrate student, family, educator, and community involvement in the development and implementation of their school diversity plans. In either case, projects supported by this program must complement, rather than duplicate, the ongoing work of the grantee, and funds awarded under this grant must supplement, and not supplant, non-Federal funds that would otherwise be available for activities funded under this program.

The Department expects applicants to submit proposals to develop or implement plans for diversity that are responsive to the significant body of research showing the importance of student diversity in fostering academic achievement. In developing their proposals, applicants should consider strategies to encourage socioeconomic diversity in schools, courses, and programs. Applicants may also propose to voluntarily foster diversity more broadly by considering legally permissible strategies for promoting diversity as it relates to factors such as race/ethnicity, culture, geography, the percentage of English learners, and the percentage of students with disabilities.

As part of the Department's Raise the Bar: Lead The World initiative (see https://www.ed.gov/raisethebar/), the Department has identified three focus areas and six strategies to help support LEAs and SEAs drive improvements in educational excellence for students in preschool through grade 12 and provide conditions that enable success for all students in their educational attainment, college, and careers. The Fostering Diverse Schools Demonstration program will help advance the Department's efforts in two of these focus areas in particular: Accelerate Learning for Every Student and Deliver a Comprehensive and Rigorous Education for Every Student.

Priorities: This competition includes two absolute priorities and three competitive preference priorities. We are establishing the absolute priorities and competitive preference priorities for the FY 2023 grant competition and any subsequent year in which we make awards from the list of unfunded applications from this competition, in accordance with section 437(d)(1) of the General Education Provisions Act (GEPA), 20 U.S.C. 1232(d)(1).

Absolute Priorities: For FY 2023 and any subsequent year in which we make awards from the list of unfunded applications from this competition, these priorities are absolute priorities. Under 34 CFR 75.105(c)(3), we consider only applications that meet one of these priorities. An applicant must identify in the project abstract the absolute priority to which it is applying.

Note: The Secretary intends to create two separate rank orders, one for each absolute priority. As a result, the Secretary may fund applications out of the overall rank order, but the Secretary is not bound to do so.

These priorities are:

Absolute Priority 1—Developing or Enhancing a Comprehensive Plan to Increase Socioeconomic Diversity.

To meet this priority, an applicant must propose to develop or enhance, and make publicly available, including by posting on the applicant's website, a comprehensive plan to increase socioeconomic diversity (as defined in this notice) across the LEA, or LEAs, as applicable, for the purpose of promoting academic achievement by providing students with access to a well-rounded education, fostering safe and healthy schools, or both.

The application must include—

(a) A description of how the applicant will develop or enhance a plan to increase socioeconomic diversity across the LEA, or LEAs, as applicable, including a description of the students, families, and school community or communities to be served, including disaggregated demographic data (e.g., income, race, ethnicity, disability status, status as an English learner).

(b) A description of how the applicant will document and publicly disseminate the results of the funded project to increase the capacity of other LEAs to implement similar programs.

(c) A timeline and approach for conducting a comprehensive assessment of the geographic area to be served, including using established survey or data collection methods to identify: areas of limited socioeconomic diversity; related barriers to and opportunities for diversity at the educational program, classroom, school, and district levels (including those related to resource equity and adequacy); and educational opportunities (for example, advanced courses, opportunities to participate in rigorous career education or courses of study leading to an in-demand and high-value industry-recognized credential, dual or concurrent enrollment, work-based learning, and academic enrichment experiences) and outcomes of students attending included schools that will inform the comprehensive plan to increase socioeconomic diversity. Such an assessment could include: identifying enrollment strategies that promote diversity while taking into account geographic proximity; analyzing the location and capacity of existing school facilities and the adequacy of local or regional transportation infrastructure to support more diverse student bodies; or examining school boundaries and feeder patterns.

(d) A timeline and approach for family, student, community, and educator engagement (such as public hearings or other open forums) to inform the development of the comprehensive plan to increase socioeconomic diversity.

(e) Action steps and a timeline to produce a comprehensive plan to increase socioeconomic diversity approved by district leadership by the end of the grant period that can serve as a roadmap for immediate and future policy and implementation actions to promote socioeconomic diversity in schools.

Absolute Priority 2—Implementing a Comprehensive Plan to Increase Socioeconomic Diversity.

To meet this priority, an applicant must propose to implement its existing high-quality comprehensive plan to increase socioeconomic diversity across the LEA, or LEAs, as applicable, for the purpose of promoting academic achievement by providing students with access to a well-rounded education, fostering safe and healthy schools, or both. In proposing a project under this priority, an applicant must—

(a) Provide evidence that the comprehensive plan to increase socioeconomic diversity is based on a comprehensive assessment of the geographic area to be served, including using established survey or data collection methods to identify areas of limited socioeconomic diversity; related barriers to socioeconomic diversity at the educational program, classroom, school, and district levels (including those related to resource equity and adequacy); and educational opportunities and outcomes of students attending included schools. The data may also include within-school data and analysis including course enrollment, academic achievement, school climate data, school staffing, and other measures related to a well-rounded education.

(b) Demonstrate, including by providing a description and relevant substantiating documentation, that the comprehensive plan to increase socioeconomic diversity is based on rigorous family, student, community, and educator engagement.

(c) Document a commitment to ambitious, but achievable, goals for increasing socioeconomic diversity and transparent, published data analysis of progress relative to those goals.

Competitive Preference Priorities: For FY 2023 and any subsequent year in which we make awards from the list of unfunded applications from this competition, these priorities are competitive preference priorities. Under 34 CFR 75.105(c)(2)(i), we award up to an additional 20 points to an application, depending on how well the application meets these priorities. An applicant must identify each competitive preference priority that it believes it meets in the project abstract, including relevant data and data sources that support the applicant's assertion that it meets the priority.

These priorities are:

Competitive Preference Priority 1—Fostering Socioeconomic Diversity in One or More High-Need LEAs. (0 or 10 points)

To meet this priority, an applicant must propose a project that will foster socioeconomic diversity in one or more high-need LEAs (as defined in this notice). To meet this priority, the applicant must identify relevant qualifying data in its project abstract or indicate in the project abstract where in the application such data are found.

Competitive Preference Priority 2—Strengthening Cross-Agency Coordination and Community Engagement to Advance Systemic Change. (Up to 5 points)

To meet this priority, an applicant must propose a project that takes a systemic, evidence-based approach to improving outcomes for all students by coordinating efforts with other local government agencies (e.g., housing or transportation), community-based organizations, social service agencies, institutions of higher education, or early learning providers to promote socioeconomic diversity in schools. To meet this priority, the applicant must identify the coordinating agencies, and their proposed contributions to the project, in its project abstract.

Competitive Preference Priority 3—Fostering Socioeconomic Diversity Through Regional Approaches. (0 or 5 points)

To meet this priority, an applicant must be a consortium of two or more LEAs that propose to increase socioeconomic diversity in schools in the participating LEAs. To receive points for this priority, the applicant must include a partnership agreement or proposed memorandum of understanding (MOU) among all members of the consortium, identified at the time of the application, that describes the role of each partner in carrying out the proposed project and each partner's efforts to advance socioeconomic diversity within the region. In addition, the MOU or partnership agreement must identify and describe the LEAs and schools that make up the region and indicate whether the project will include all schools within the LEAs or specific regions and/or schools within the LEAs.

Note: The written partnership agreement or proposed MOU necessary to receive points for this priority is in addition to the signed letters of support that are required of all applicants.

Requirements: We are establishing these application and program requirements for the FY 2023 grant competition and any subsequent year for which we make awards from the list of unfunded applications from this competition, in accordance with section 437(d)(1) of GEPA, 20 U.S.C. 1232(d)(1).

Application Requirement: In addition to addressing the requirements included in the applicable Absolute Priority, applicants must include the following in their application:

(a) Signed letters demonstrating broad community support for the proposal from at least five established community organizations representing diverse populations.

(b) A description of how the proposed project will be designed to improve student outcomes, including increased academic achievement, in schools served by the LEA(s) by doing either or both of the following:

(1) Increasing access to well-rounded educational opportunities.

(2) Supporting safe, healthy, and supportive school environments.

Program Requirements: Grantees must adhere to the following program requirements:

(a) A grantee receiving an award under any absolute priority must, over the course of the project period, disseminate lessons learned as a result of the grant in at least three instances (such as articles, presentations, or peer-to-peer learning opportunities).

(b) By the end of the project period, a grantee receiving an award under Absolute Priority 1 must also—

(1) Produce a comprehensive plan to increase socioeconomic diversity that is posted on each affected LEA's website to serve as a roadmap for short-term and long-term policy and implementation actions to diversify schools; and

(2) Demonstrate in the final comprehensive plan to increase socioeconomic diversity that the applicant considered the feedback from family, student, community, and educator engagement efforts.

(c) A grantee receiving an award under Absolute Priority 2 must also conduct and make publicly available, including on its public website, an annual report of the progress achieved during the project period on its specific goals and metrics for success, including disaggregated data (e.g., income, race, ethnicity, disability status, status as an English learner), and include in the evaluation the steps it will take to refine or improve activities.

(d) A grantee that submitted a proposed partnership agreement or MOU in response to Competitive Preference Priority 3 must provide a final version signed by all parties within 60 days of receiving the grant award.

Definitions: We are establishing the definitions of “comprehensive plan to increase socioeconomic diversity,” “high-need local educational agency,” and “children from low-income backgrounds” for the FY 2023 grant competition and any subsequent year in which we make awards from the list of unfunded applications from this competition, in accordance with section 437(d)(1) of GEPA, 20 U.S.C. 1232(d)(1). The definitions of “local educational agency” and “well-rounded education” are from ESEA section 8101.

Children from low-income backgrounds means students and children who are from low-income families using any of the poverty measures in section 1113(a)(5) of the ESEA.

Comprehensive plan to increase socioeconomic diversity means a comprehensive plan (approved by an LEA's leadership) to—

(a) Increase socioeconomic diversity within schools, classrooms, educational programs, or courses or across and within school district(s), for the purpose of promoting academic achievement; and

(b) Promote student academic achievement by fostering inclusive and welcoming learning environments that support the academic, social, emotional, and mental health needs of all students within classrooms and extracurricular activities in the district or districts and increase access to safe, healthy, and/or well-rounded educational opportunities.

The plan must include all of the following:

(1) The results of a comprehensive assessment of the area to be served.

(2) Goals, metrics to determine progress and success, timelines, and cost estimates for improving and sustaining socioeconomic diversity in covered LEAs, schools, classrooms, and educational programs.

(3) Professional development activities that support educators in creating safe, supportive, and inclusive learning environments.

(4) Actions that build capacity to collect and analyze data that provide information for transparency, evaluation, and continuous improvement, including data that supports meeting diversity goals for students and educators, and equitable access to, and success in, programs and activities.

(5) An approach to sustaining robust ongoing engagement with families, students, community members, and educators.

(6) A comprehensive set of strategies designed to improve academic outcomes for all students at each of the following levels: (1) LEA, (2) school, and (3) classroom. The plan must ensure that approaches offer schoolwide opportunities (i.e., to benefit all students in the school). Strategies may include, for example, consideration of neighborhood residence in student assignment; revised school assignment and feeder patterns; regional coordination; interdistrict or intradistrict transfers; weighted or unweighted admissions policies; open enrollment policies that allow families to choose or rank schools; providing new or expanded access to schoolwide specialized academic programs, unique curricular options, or facilities designed to attract students from diverse socioeconomic backgrounds; or funding supplemental costs of transportation to allow for socioeconomic school diversity.

(7) Specific methods for disseminating lessons learned during implementation.

High-need local educational agency means a local educational agency—

(a)(1) For which at least 40 percent of the children served by the agency are children from low-income backgrounds;

(2) That meets the eligibility requirements for funding under the Small, Rural School Achievement (SRSA) program under section 5211(b) of the ESEA; or

(3) That meets the eligibility requirements for funding under the Rural and Low-Income School (RLIS) program under section 5221(b) of the ESEA.

Local educational agency—

(a) In General. The term “local educational agency” means a public board of education or other public authority legally constituted within a State for either administrative control or direction of, or to perform a service function for, public elementary schools or secondary schools in a city, county, township, school district, or other political subdivision of a State, or of or for a combination of school districts or counties that is recognized in a State as an administrative agency for its public elementary schools or secondary schools.

(b) Administrative Control and Direction. The term includes any other public institution or agency having administrative control and direction of a public elementary school or secondary school.

(c) Bureau of Indian Education Schools. The term includes an elementary school or secondary school funded by the Bureau of Indian Education but only to the extent that including the school makes the school eligible for programs for which specific eligibility is not provided to the school in another provision of law and the school does not have a student population that is smaller than the student population of the LEA receiving assistance under the ESEA with the smallest student population, except that the school shall not be subject to the jurisdiction of any SEA other than the Bureau of Indian Education.

(d) Educational Service Agencies. The term includes educational service agencies and consortia of those agencies.

(e) State Educational Agency. The term includes the SEA in a State in which the SEA is the sole educational agency for all public schools.

Well-rounded education means courses, activities, and programming in subjects such as English, reading or language arts, writing, science, technology, engineering, mathematics, foreign languages, civics and government, economics, arts, history, geography, computer science, music, career and technical education, health, physical education, and any other subject, as determined by the State or local educational agency, with the purpose of providing all students access to an enriched curriculum and educational experience.

Waiver of Proposed Rulemaking: Under the Administrative Procedure Act (5 U.S.C. 553), the Department generally offers interested parties the opportunity to comment on proposed priorities, definitions, and requirements. Section 437(d)(1) of GEPA, however, allows the Secretary to exempt from rulemaking requirements regulations governing the first grant competition under a new or substantially revised program authority. This is the first grant competition for this program under section 4103(a)(3) of the ESEA (20 U.S.C. 7113(a)(3)) and it therefore qualifies for the GEPA exemption. In order to ensure timely grant awards, the Secretary has decided to forgo public comment on the priorities, requirements, and definitions under section 437(d)(1) of GEPA. The priorities, requirements, and definitions will apply to the FY 2023 grant competition and any subsequent year in which we make awards from the list of unfunded applications from this competition.

Program Authority: Section 4103(a)(3) of the ESEA (20 U.S.C. 7113(a)(3)).

Note: Projects will be awarded and must be operated in a manner consistent with the nondiscrimination requirements contained in the Federal civil rights laws.

Applicable Regulations:

(a) The Education Department General Administrative Regulations in 34 CFR parts 75, 77, 79, 81, 82, 84, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

II. Award Information

Type of Award: Discretionary grants.

Estimated Available Funds: $10,000,000.

Contingent upon the availability of funds and the quality of applications, we may make additional awards in subsequent years from the list of unfunded applications from this competition.

Estimated Range of Awards: $250,000-500,000 per year for grants under Absolute Priority 1; $1,000,000-$4,000,000 per year for grants under Absolute Priority 2.

Estimated Average Size of Awards: $375,000 per year for grants under Absolute Priority 1; $2,000,000 per year for grants under Absolute Priority 2.

Estimated Number of Awards:

(a) Absolute Priority 1: 4-8.

(b) Absolute Priority 2: 1-3.

Note: The Department is not bound by any estimates in this notice.

Maximum Award: For grants under Absolute Priority 1, we will not make an award exceeding $500,000 for a single budget period of 12 months. For grants under Absolute Priority 2, we will not make an award exceeding $4,000,000 for a single budget period of 12 months.

Project Period:

For grants under Absolute Priority 1, up to 24 months.

For grants under Absolute Priority 2, up to 60 months.

III. Eligibility Information

1. Eligible Applicants: LEAs, consortia of LEAs, or one or more LEAs in partnership with an SEA.

2. a. Cost Sharing or Matching: This program does not require cost sharing or matching.

b. Supplement-Not-Supplant: This program is subject to the supplement-not-supplant requirements in ESEA section 4110.

c. Indirect Cost Rate Information: This program uses a restricted indirect cost rate. For more information regarding indirect costs, or to obtain a negotiated indirect cost rate, please see www2.ed.gov/about/offices/list/ocfo/intro.html.

d. Administrative Cost Limitation: This program does not include any program-specific limitation on administrative expenses. All administrative expenses must be reasonable and necessary and conform to the Cost Principles described in 2 CFR part 200 subpart E of the Uniform Guidance.

3. Equitable Services for Children and Educators in Private Schools: A grantee under this program is required to provide for the equitable participation of private school children, teachers, and other educational personnel in accordance with section 8501 of the ESEA (20 U.S.C. 7881). Applicants must consult with appropriate private school officials before the entity makes any decision that affects the opportunities of eligible private school children and educators to receive equitable services under this program. (ESEA section 8501(c)(3)). Consultation might include a brief survey of private schools or other information gathering to indicate the schools' interest in participating and the population to be served to allow the applicant to consider the needs of private school children and educators in developing its application, and to include the projected costs for equitable services in the application.

4. Subgrantees: A grantee under this competition may not award subgrants to entities to directly carry out project activities described in its application.

IV. Application and Submission Information

1. Application Submission Instructions: For the addresses for obtaining and submitting an application, please refer to our Common Instructions for Applicants to Department of Education Discretionary Grant Programs, published in the Federal Register on December 7, 2022 (87 FR 75045), and available at https://www.federalregister.gov/documents/2022/12/07/2022-26554/common-instructions-for-applicants-to-department-of-education-discretionary-grant-programs. Please note that these Common Instructions supersede the version published on December 27, 2021.

2. Intergovernmental Review: This program is subject to Executive Order 12372 and the regulations in 34 CFR part 79. Information about Intergovernmental Review of Federal Programs under Executive Order 12372 is in the application package for this program.

3. Funding Restrictions: We reference regulations outlining funding restrictions in the Applicable Regulations section of this notice.

4. Recommended Page Limit: The application narrative is where you, the applicant, address the selection criteria that reviewers use to evaluate your application. We recommend that you (1) limit the application narrative to no more than 75 pages and (2) use the following standards:

• A “page” is 8.5″ x 11″, on one side only, with 1″ margins at the top, bottom, and both sides.

• Double-space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to the cover sheet; the budget section (including the narrative budget justification); the assurances and certifications; or the one-page abstract, the resumes, the bibliography, or the letters of support. However, the recommended page limit does apply to all of the application narrative.

V. Application Review Information

1. Selection Criteria: The selection criteria for this program are from 34 CFR 75.210. The selection criteria are as follows:

(a) Need for project (up to 10 points).

(1) The Secretary considers the need for the proposed project.

(2) In determining the need for the proposed project, the Secretary considers the following factors:

(i) The magnitude or severity of the problem to be addressed by the proposed project. (up to 5 points)

(ii) The extent to which specific gaps or weaknesses in services, infrastructure, or opportunities have been identified and will be addressed by the proposed project, including the nature and magnitude of those gaps or weaknesses. (up to 5 points)

(b) Quality of the project design (up to 25 points).

(1) The Secretary considers the quality of the design of the proposed project.

(2) In determining the quality of the design of the proposed project, the Secretary considers the following factors:

(i) The extent to which the goals, objectives, and outcomes to be achieved by the proposed project are clearly specified and measurable. (up to 5 points)

(ii) The extent to which the design of the proposed project is appropriate to, and will successfully address, the needs of the target population or other identified needs. (up to 5 points)

(iii) The extent to which the proposed project is designed to build capacity and yield results that will extend beyond the period of Federal financial assistance. (up to 5 points)

(iv) The extent to which the design of the proposed project reflects up-to-date knowledge from research and effective practice. (up to 5 points)

(v) The extent to which the applicant demonstrates that it has the resources to operate the project beyond the length of the grant, including a multiyear financial and operating model and accompanying plan; the demonstrated commitment of any partners; evidence of broad support from stakeholders (such as State educational agencies and teachers' unions) critical to the project's long-term success; or more than one of these types of evidence. (up to 5 points)

(c) Quality of project services (up to 15 points).

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability. (up to 5 points)

(3) In addition, the Secretary considers the following factors:

(i) The likely impact of the services to be provided by the proposed project on the intended recipients of those services. (up to 5 points)

(ii) The extent to which the services to be provided by the proposed project are focused on those with the greatest needs. (up to 5 points)

(d) Quality of project personnel (up to 10 points).

(1) The Secretary considers the quality of the personnel who will carry out the proposed project.

(2) In determining the quality of project personnel, the Secretary considers the extent to which the applicant encourages applications for employment from persons who are members of groups that have historically been underrepresented based on race, color, national origin, gender, age, or disability. (up to 5 points)

(3) In addition, the Secretary considers the qualifications, including relevant training and experience, of key project personnel. (up to 5 points)

(e) Adequacy of resources (up to 10 points).

(1) The Secretary considers the adequacy of resources for the proposed project.

(2) In determining the adequacy of resources for the proposed project, the Secretary considers the following factors:

(i) The relevance and demonstrated commitment of each partner in the proposed project to the implementation and success of the project. (up to 5 points)

(ii) The extent to which the costs are reasonable in relation to the objectives, design, and potential significance of the proposed project. (up to 5 points)

(f) Quality of the management plan (up to 20 points).

(1) The Secretary considers the quality of the management plan for, and the evaluation to be conducted of, the proposed project.

(2) In determining the quality of the management plan and the project evaluation, the Secretary considers the following factors:

(i) The adequacy of the management plan to achieve the objectives of the proposed project on time and within budget, including clearly defined responsibilities, timelines, and milestones for accomplishing project tasks. (up to 5 points)

(ii) The adequacy of procedures for ensuring feedback and continuous improvement in the operation of the proposed project. (up to 5 points)

(iii) How the applicant will ensure that a diversity of perspectives are brought to bear in the operation of the proposed project, including those of parents, teachers, the business community, a variety of disciplinary and professional fields, recipients or beneficiaries of services, or others, as appropriate. (up to 10 points)

(g) Quality of the project evaluation (up to 10 points).

(1) The Secretary considers the quality of the evaluation to be conducted of the proposed project.

(2) In determining the quality of the evaluation, the Secretary considers the following factors:

(i) The extent to which the methods of evaluation will provide valid and reliable performance data on relevant outcomes. (up to 5 points)

(ii) The extent to which the methods of evaluation include the use of objective performance measures that are clearly related to the intended outcomes of the project and will produce quantitative and qualitative data to the extent possible. (up to 5 points)

Note: The project evaluation selection criterion relates to performance measure (b) under the Performance Measures section of this notice.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.206, before awarding grants under this program the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the John S. McCain National Defense Authorization Act for Fiscal Year 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to https://www2.ed.gov/fund/grant/apply/appforms/appforms.html.

(c) Under 34 CFR 75.250(b), the Secretary may provide a grantee with additional funding for data collection analysis and reporting. In this case the Secretary establishes a data collection period.

5. Performance Measures:

(a) Program Performance Measures. The performance measures for this program are—

(1) For grants under Absolute Priority 1:

(i) The percentage of affected families who were engaged in the planning process (that is, the number of affected families who were engaged divided by the estimated total number of affected families);

(ii) The percentage of affected educators who were engaged in the planning process (that is, the number of affected educators who were engaged divided by the total number of affected educators);

(iii) The percentage of affected students who were engaged in the planning process (that is, the number of affected students who were engaged divided by the total number of affected students);

(iv) The number of community partners who were engaged in the planning process;

(v) The number of grantees that developed or enhanced, and published, a comprehensive plan for increasing socioeconomic diversity; and

(vi) The number of grantees that have implemented or are implementing their comprehensive plan within 24-months of the end of the project period.

(2) For grants under Absolute Priority 2:

(i) The number of grantees that met their project-specific goals for increasing and sustaining socioeconomic diversity in covered schools, as measured against goals set forth in their comprehensive plans for increasing socioeconomic diversity.

(ii) The increase in the number of students with access to well-rounded educational opportunities, compared with a baseline determined by the grantee.

(iii) The number of schools demonstrating improved outcomes in each of the following, which must be reported to the Department overall and by student group (for each group identified in ESEA section 1111(c)(2)):

(A) Increasing student achievement;

(B) Increasing high school graduation rates;

(C) Reducing school discipline rates, including reduced disproportionality in discipline rates; and

(D) Improving kindergarten readiness.

(iv) The number of community partners engaged.

(b) Project-Specific Performance Measures. Applicants must propose project-specific performance measures and performance targets consistent with the objectives of the proposed project, including measures to address how the project will enhance and expand the provision of well-rounded education opportunities to students and support student health and success. Applicants must provide the following information as directed under 34 CFR 75.110(b) and (c):

(1) Performance measures. How each proposed performance measure would accurately measure the performance of the project and how the proposed performance measure would be consistent with the performance measures established for the program funding the competition.

(2) Baseline data. (i) Why each proposed baseline is valid; or (ii) if the applicant has determined that there are no established baseline data for a particular performance measure, an explanation of why there is no established baseline and of how and when, during the project period, the applicant would establish a valid baseline for the performance measure.

(3) Performance targets. Why each proposed performance target is ambitious yet achievable compared to the baseline for the performance measure and when, during the project period, the applicant would meet the performance target(s).

(4) Data collection and reporting. (i) The data collection and reporting methods the applicant would use and why those methods are likely to yield reliable, valid, and meaningful performance data; and (ii) the applicant's capacity to collect and report reliable, valid, and meaningful performance data, as evidenced by high-quality data collection, analysis, and reporting in other projects or research.

All grantees must submit annual performance reports with information that is responsive to these performance measures.

6. Continuation Awards: In making a continuation award under 34 CFR 75.253, the Secretary considers, among other things: whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

James F. Lane,
Principal Deputy Assistant Secretary, Delegated the Authority To Perform the Functions and Duties of the Assistant Secretary for Elementary and Secondary Education.

[FR Doc. 2023-09667 Filed 5-5-23; 8:45 am]

BILLING CODE 4000-01-P